DEPARTMENT OF HEALTH AND HUMAN SERVICES

Administration for Children and Families

45 CFR Parts 301, 302, 303, 304, 305, 307, 308, 309, and 310

RIN 0970-AD06

Name Change From Office of Child Support Enforcement to Office of Child Support Services

AGENCY: Office of Child Support Services (OCSS), Administration for Children and Families (ACF), Department of Health and Human Services (HHS or the Department).

ACTION: Direct final rule.

SUMMARY: In an effort to make child support regulations consistent with recent rulemaking and updated Tribal child support processes and reporting, this direct final rule (DFR) makes technical updates reflect the current name of the child support program, Office of Child Support Services (OCSS). This is a conforming update to align with the Federal Register notice changing the office's name in the Statement of Organization, Functions, and Delegations of Authority that was published on June 5, 2023, and updates based on the Elimination of the Tribal Non-Federal Share Requirement final rule issued on February 12, 2024.

DATES: This rule is effective March 3, 2025, without further action unless adverse comment is received by January 30, 2025. If significant adverse comment is received, ACF will publish a timely withdrawal of the rule in the Federal Register.

ADDRESSES: You may submit comments, identified by Regulatory Information Number (RIN) number, by one of the following methods:

• Federal e-Rulemaking Portal: https://www.regulations.gov. Follow the instructions for submitting comments.

• Mail: Written comments may be submitted to: Office of Child Support Services, Attention: Director of Policy and Training, 330 C Street SW, Washington, DC 20201.

Instructions: All submissions received must include the agency name and RIN for this rulemaking. All comments received will be posted without change to https://www.regulations.gov, including any personal information provided.

Docket: Go to the Federal Rulemaking Portal at https://www.regulations.gov for access to the rulemaking docket, including any background documents and the plain-language summary of the rule of not more than 100 words in length required by the Providing Accountability Through Transparency Act of 2023.

FOR FURTHER INFORMATION CONTACT: Tavaughn McKenny, Program Specialist, OCSS Division of Policy and Training, at ocss.dpt@acf.hhs.gov or (202) 565-0129. Telecommunications Relay users may dial 711 first.

SUPPLEMENTARY INFORMATION:

Submission of Comments

Comments should be specific, address issues raised by the rule, and explain reasons for any objections or recommended changes. This rule will be effective on the date shown in the DATES section unless OCSS receives significant adverse comment on or before the deadline for comments. Significant adverse comments are comments that provide strong justifications for why the rule should not be adopted or for changing the rule. OCSS does not expect to receive any significant adverse comments because it is adopting the name change already announced in the Federal Register and making technical updates to 45 CFR part 309. If OCSS receives any significant adverse comments, it will publish a document in the Federal Register withdrawing this rule before the effective date. Although we will not acknowledge receipt of individual comments, we will review and consider all comments that are relevant and received during the comment period. We will respond to these comments in the withdrawal if the rule is withdrawn. If OCSS receives no significant adverse comments, the rule will be effective 60 days after publication without further notice.

Statutory Authority

This DFR is published under the authority granted to the Secretary of Health and Human Services by section 1102 of the Social Security Act (the Act) (42 U.S.C. 1302). Section 1102 of the Act authorizes the Secretary to publish regulations, not inconsistent with the Act, as may be necessary to the efficient administration of the functions with which the Secretary is responsible under the Act. This DFR is also authorized by section 452(a) of the Act (42 U.S.C. 652(a)), which gives the Secretary of HHS the statutory authority to change the name of the child support program.

This DFR is further published in accordance with section 455(f) of the Act (42 U.S.C. 655(f)) which authorizes the Secretary to make child support funding available to Tribes and Tribal organizations operating child support programs and to issue regulations establishing requirements for Tribal child support programs.

Background

In 1975, Congress established the child support program under title IV-D of the Social Security Act (Pub. L. 93-647). The child support program is administered at the federal level by the Office of Child Support Enforcement (OCSE) and functions in 54 states and territories and over 60 Tribes. When the child support program began, its primary focus was collecting child support to recover welfare costs, but that has changed significantly over time. Today, the program is focused on delivering family-centered child support services that improve the long-term financial and emotional support of children, by collecting and facilitating consistent child support payments based on noncustodial parents' ability to pay. This evolution has been guided by the changing needs of families, by Federal legislation, and by research and data that contribute to OCSE's understanding of the standards and requirements necessary to establish an effective child support program.

On June 5, 2023, ACF published a notice in the Federal Register, 88 FR 36587,¹ updating the office's Statement of Organization, Functions, and Delegations of Authority to announce that the Office of Child Support Enforcement is now the Office of Child Support Services. This name change reflects the program's commitment to serve the whole family and provide services that promote family self-sufficiency, so children receive reliable support from both parents.

¹ See Name Change Announcement—Office of Child Support Enforcement; Statement of Organization, Functions, and Delegations of Authority (88 FR 36587) at https://www.govinfo.gov/content/pkg/FR-2023-06-05/pdf/2023-11815.pdf.

On February 12, 2024, ACF published a final rule in the Federal Register, 89 FR 9784,² to announce the Elimination of the Tribal Non-Federal Share Requirement. The final rule provided additional support to Tribes to administer their Tribal IV-D programs, however, a few changes are required in related regulations in 45 CFR 309.75(e) to align with the final rule. Additionally, as the Tribal IV-D program continues to evolve, updated Tribal processes and reporting necessitate updates to 45 CFR part 309.

² See Final Rule—Elimination of the Tribal Non-Federal Share Requirement (89 FR 9784) at https://www.govinfo.gov/content/pkg/FR-2024-02-12/pdf/2024-02110.pdf.

Justification

The purpose of this rule is to change the name of the child support program in 45 CFR chapter III, parts 301 through 310, and make required technical updates to 45 CFR part 309. The name of the child support program was changed from OCSE to OCSS on June 5, 2023. However, all child support regulations throughout 45 CFR chapter III refer to the child support program as OCSE. OCSS needs to change all references to the child support program in 45 CFR chapter III from OCSE to OCSS to align with the name change of the child support program.

Additionally, technical updates are required to remove paragraphs one through four in 45 CFR 309.75(e) for alignment with the Elimination of the Tribal Non-Federal Share Requirement final rule. Technical updates are also required to align § 309.130(a)(2) with OCSS's current process for making awards, and to align §§ 309.20(b), 309.130(b)(3), 309.135(d), 309.160, and 309.170(b) introductory text, (b)(1), (2), and (7), and (c) with updated Tribal IV-D reporting, including Office of Management and Budget (OMB) approved data collection forms, and to allow for Tribal IV-D program applications to be submitted electronically.

Summary Description of the Regulatory Provisions

The following is a summary of the regulatory provisions included in this direct final rule and, where appropriate, how these provisions differ from the provisions currently reflected in 45 CFR chapter III.

The final rule makes a nomenclature change, to remove the name “Office of Child Support Enforcement” wherever it appears throughout 45 CFR chapter III, within titles, images, sections, and paragraphs, and replace it with the name “Office of Child Support Services”. This name change promotes family self-sufficiency, emphasizing the need for children to receive reliable support from both parents.

The term “Office of Child Support Enforcement” is replaced with “Office of Child Support Services” in 45 CFR chapter III as shown in the following table:

Part | Sections
301 | 301.1, 301.13.
303 | 303.20.
304 | 304.25, 304.29.
305 | 305.32, 305.35.
309 | 309.05, 309.20.

The final rule makes a nomenclature change, to remove the acronym “OCSE” wherever it appears throughout 45 CFR chapter III, within titles, images, sections, and paragraphs, and replace it with the acronym “OCSS”. This acronym change supports the name change to Office of Child Support Services that recognizes the program's commitment to serve the whole family and provide services that promote family self-sufficiency.

The acronym “OCSE” is replaced with acronym “OCSS” in 45 CFR chapter III as shown in the following table:

Part | Sections
301 | 301.13, 301.15, 301.16.
302 | 302.85.
303 | 303.11, 303.72.
304 | 304.40.
305 | 305.1, 305.35, 305.60, 305.66.
307 | 307.1, 307.05, 307.15, 307.25.
308 | 308.1.
309 | 309.05, 309.45, 309.130, 309.145, 309.160, 309.170.
310 | 310.1, 310.5, 310.10, 310.20, 310.25, 310.30, 310.35, 310.40.

In addition to changing the name of the “Office of Child Support Enforcement” to the “Office of Child Support Services” and changing the related acronym from “OCSE” to “OCSS,” this direct final rule removes the word “enforcement” where it is unnecessary or changes the word “enforcement” to the word “services” or the word “program” as appropriate. These changes acknowledge and reflect the name change and the broader scope of services the child support program provides to families. The changed provisions are §§ 301.1, 301.13, 302.19(a), 302.30, 302.70(d)(2), 302.75(b)(6), 302.85(b)(2)(ii), 303.2(a)(3), 303.5(g)(ii)(B), 304.11, 304.20(b) introductory text, (b)(1) introductory text, (b)(1)(iii), and (b)(12), 304.23(i), 304.24, 304.30, 305.1(d), 305.35(e), 307.1(h)(1), 307.5(c)(3), 309.01(a), 309.05, 309.10(c), 309.55, 309.130(a)(1), (b)(4), and (c)(2), and 309.170(a).

This direct final rule also changes the word “insure” to the word “ensure” in § 302.19(a), and it adds the word “child” to clarify “support services” and removes the word “enforcement” in the heading and the body of § 302.30.

Section 309.20 Who submits a Tribal IV-D program application and where?

Section 309.20(b) requires Tribes or Tribal organizations submitting an initial application for funding under § 309.65(a) to mail the application to OCSS, with a copy to the appropriate regional office. This rule amends that requirement by revising paragraph (b) to allow applications to be submitted via email to OCSS.Tribal@acf.hhs.gov.

Section 309.75 What administrative and management procedures must a Tribe or Tribal organization include in a Tribal IV-D plan?

Prior to the elimination of the Tribal non-Federal share requirement, § 309.75(e) described the requirements for a Tribe and Tribal organization that intends to charge an application fee or recover costs in excess of the fee. Collected fees and recovered costs are considered program income and deducted from total allowable costs in accordance with 45 CFR 75.307(e)(1). When we proposed eliminating the Tribal non-Federal share requirement, we also proposed revising § 309.75(e) to require Tribal child support programs to have procedures that prohibit charging fees and recovering costs and to remove paragraphs (e)(1) through (4).³ There were no objections to the proposed regulatory amendments and the amended language was incorporated in the final rule.⁴ However, when the revisions to § 309.75(e) were codified in the CFR, paragraphs (e)(1) through (4) were inadvertently retained. This rule effectuates that conforming change by removing paragraphs (e)(1) through (4).

³ See Notice of Proposed Rulemaking—Elimination of the Tribal Non-Federal Share Requirement (88 FR 24526) at https://www.govinfo.gov/content/pkg/FR-2023-04-21/pdf/2023-07861.pdf.

⁴ See Final Rule—Elimination of the Tribal Non-Federal Share Requirement (89 FR 9784) at https://www.govinfo.gov/content/pkg/FR-2024-02-12/pdf/2024-02110.pdf.

Section 309.130 How will Tribal IV-D programs be funded and what forms are required?

Section 309.130(a)(2) provides that Tribes and Tribal organizations eligible for grants of less than $1 million per 12-month funding period will receive a single annual award, while those eligible for grants of $1 million or more per 12-month funding period will receive four equal quarterly awards. In practice, all Tribes and Tribal organizations receive a single annual award regardless of the funded amount. This rule makes a technical correction to § 309.130(a)(2) by revising the paragraph to align with OCSS's current process for making awards.

Tribes and Tribal organizations are required under § 309.130(b)(3) to submit a final SF 425, “Federal Financial Report,” within 90 days after the end of the fourth quarter of both the funding and liquidation periods. This timeframe is more restrictive than the OMB modified closeout provisions at 2 CFR 200.344, which allow 120 days for the submission of non-Federal entity closeout reports. In 2023, HHS began following 2 CFR 200.344. As explained in the published Change in Federal Award Closeout Provisions notice,⁵ “[a]dhering to the 2 CFR 200.344 closeout provisions would provide more time for recipient compliance and conform with other Federal awarding agencies, thus promoting greater equity and fairness.” For these same reasons, this rule amends § 309.130(b)(3) by removing the number “90” and adding, in its place, the number “120” to align with 2 CFR 200.344.

⁵ See Notice—Change in Federal Award Closeout Provisions (88 FR 63591) at https://www.govinfo.gov/content/pkg/FR-2023-09-15/pdf/FR-2023-09-15.pdf.

Section 309.135 What requirements apply to funding, obligating and liquidating Federal title IV-D grant funds?

Section 309.135(d) requires that a Tribe or Tribal organization use Form SF 269A to report quarterly on the amount of Federal title IV-D grant funds that have been obligated and liquidated and the amounts that remain unobligated and unliquidated at the end of each fiscal quarter during the obligation and liquidation periods. Form SF 269A is now known as the SF 425, “Federal Financial Report.” This rule makes a technical correction to the citation by removing the number “269A” and adding, in its place, the number “425”.

Section 309.170 What statistical and narrative reporting requirements apply to Tribal IV-D programs?

The OCSS-75 Tribal Annual Data Report is used to report program status and accomplishments according to § 309.170(b). In 2021, form OCSS-75 was revised through a joint workgroup with Tribal child support directors and provided to all Tribal child support directors for review and feedback, in addition to being made available for public comment in compliance with the requirements of section 3506(c)(2)(A) of the Paperwork Reduction Act of 1995. As such, this rule updates § 309.170 to conform to the revised OCSS-75 Tribal Annual Data Report,⁶ which was implemented beginning Fiscal Year 2023.

⁶ See OCSS AT-22-02 at https://www.acf.hhs.gov/css/policy-guidance/implementing-revised-ocse-75-form-and-instructions-effective-fy-2023.

Section 309.170(b) and (c) make a general reference to the submission of Tribal IV-D program statistical and narrative reports. This rule amends both citations to reference the Tribal Annual Data Report (OCSS-75) more specifically by adding the text “on the Tribal Annual Data Report (OCSS-75)” to paragraph (b) and removing the text “Tribal IV-D program statistical and narrative reports” from paragraph (c) and adding, in its place, the text “the Tribal Annual Data Report (OCSS-75)”.

Section 309.170(b)(1) is amended to add the addition of new Tribal reporting criteria on Line 2A of the OCSS-75 report, “Total Number of Tribal Cases Open at Any Time During the Fiscal Year”.

Section 309.170(b)(2) is amended to reflect revised OCSS-75 data reporting requirements for paternity establishment. Requirements to report out-of-wedlock births in the previous year and paternities established or acknowledged are revised to reflect updated requirements to report the total number of children in cases open at any time during the fiscal year and the total number of children with paternity concluded.

Section 309.170(b)(7) instructs Tribal child support programs to report total costs claimed. However, the OCSS-75 report does not collect data on total costs claimed. This rule removes paragraph (b)(7) accordingly and redesignates paragraph (b)(8) to paragraph (b)(7).

Effective Dates

The effective date will be 60 days from the date of publication in the Federal Register.

Regulatory Review

Paperwork Reduction Act of 1995

No new information collection requirements are imposed by these regulations.

Regulatory Impact Analysis

Executive Orders 12866 and 13563

Executive Orders 12866, as amended by Executive Order 14094, and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule meets the standards of Executive Orders 12866, as amended by Executive Order 14094, and 13563 because it does not have an economic impact and it harmonizes the OCSS Name Change, the Elimination of the Tribal Non-Federal Share Requirement final rule, and Tribal IV-D regulations with current Tribal IV-D processes and reporting requirements. There is no financial impact to making these required technical updates.

Regulatory Flexibility Analysis

The Secretary certifies that, under 5 U.S.C. 605(b), as enacted by the Regulatory Flexibility Act (Pub. L. 96-354), this rule will not result in a significant impact on a substantial number of small entities.

Unfunded Mandates Reform Act of 1995

The Unfunded Mandates Reform Act of 1995 (Pub. L. 104-4) requires agencies to prepare an assessment of anticipated costs and benefits before issuing any rule that may result in an annual expenditure by State, local, and Tribal governments, in the aggregate, or by the private sector, of $100 million or more (adjusted annually for inflation). That threshold level is currently approximately $177 million. This rule does not impose any mandates on State, local, or Tribal governments, or the private sector, that will exceed this threshold in any year.

Assessment of Federal Regulations and Policies on Families

Section 654 of the Treasury and General Government Appropriations Act of 1999 requires Federal agencies to determine whether a proposed policy or regulation may affect family well-being. If the agency's determination is affirmative, then the agency must prepare an impact assessment addressing seven criteria specified in the law. We certify that we have assessed this rule's impact on the well-being of families. This rule will not affect family well-being.

Congressional Review

This rule is not a major rule as defined in 5 U.S.C. chapter 8.

Executive Order 13132

Executive Order 13132 prohibits an agency from publishing any rule that has federalism implications if the rule either imposes substantial direct compliance costs on State and local governments and is not required by statute, or the rule preempts State law, unless the agency meets the consultation and funding requirements of section 6 of the Executive order. This rule does not have federalism impacts as defined in the Executive Order 13132.

Meg Sullivan, Principal Deputy Assistant Secretary for the Administration for Children and Families, performing the delegable duties of the Assistant Secretary for Children and Families, approved this document on December 10, 2024.

List of Subjects

45 CFR Part 301

Child support, Grant procedures, State plan approval.

45 CFR Part 302, 303, and 304

Child support, Grant programs—social programs.

45 CFR Part 305

Child support, Financial incentives, Penalties, Program performance measures, Standards.

45 CFR Part 307

Child support, Computer technology, Grant programs—social programs.

45 CFR Part 308

Child support, Grant programs—social programs, Reporting and recordkeeping requirements.

45 CFR Part 309

Child support, Grant programs—social programs, Indians—tribal government.

45 CFR Part 310

Child support, Computer technology, Grant programs—social programs, Indians—tribal government.

Dated: December 20, 2024.
Xavier Becerra,
Secretary, Department of Health and Human Services.

For the reasons stated in the preamble, the Department of Health and Human Services amends 45 CFR parts 301, 302, 303, 304, 305, 307, 308, 309, and 310 as set forth below:

PART 301—STATE PLAN APPROVAL AND GRANT PROCEDURES

1. The authority citation for part 301 continues to read as follows:

Authority: 42 U.S.C. 651 through 658, 659a, 660, 664, 666, 667, 1301, and 1302.

§ 301.1 [Amended]

2. Amend § 301.1 by:

a. Removing the word “Enforcement” and adding in its place the word “Services” in the definitions for “Director”, “Federal PLS”, “Office”, and “Regional Office and Central Office”; and

b. Removing the word “enforcement” and adding in its place the word “program” in the definition for “Procedures”.

§ 301.13 [Amended]

3. Amend § 301.13 by:

a. Removing the text “Child Support Enforcement” from the introductory text and adding, in its place, the text “child support”;

b. Removing the word “Enforcement” everywhere it appears and adding, in its place, the word “Services” in paragraph (b); and

c. Removing the acronym “OCSE” and adding, in its place, the acronym “OCSS” in paragraph (e).

§ 301.15 [Amended]

4. Amend § 301.15 by:

a. Removing the word “Enforcement” and adding, in its place, the word “Services” in the introductory text and paragraphs (a)(1) and (2); and

b. Removing the acronym “OCSE” everywhere it appears and adding, in its place, the acronym “OCSS” in paragraphs (a)(1) and (2) and (b)(2) and (3).

§ 301.16 [Amended]

5. Amend § 301.16(b)(1) by removing the acronym “OCSE” and adding, in its place, the acronym “OCSS”.

PART 302—STATE PLAN REQUIREMENTS

6. The authority citation for part 302 continues to read as follows:

Authority: 42 U.S.C. 651 through 658, 659a, 660, 664, 666, 667, 1302, 1396a(a)(25), 1396b(d)(2), 1396b(o), 1396b(p), and 1396(k).

§ 302.19 [Amended]

7. Amend § 302.19(a) by:

a. Removing the word “insure” and adding, in its place, the word “ensure”; and

b. Removing the word “enforcement”.

8. Amend § 302.30 by revising the section heading to read as follows:

§ 302.30 Publicizing the availability of child support services.

§ 302.70 [Amended]

9. Amend § 302.70(d)(2) by removing the text “Child Support Enforcement” and adding, in its place, “child support”.

§ 302.75 [Amended]

10. Amend § 302.75(b)(6) by removing the word “Enforcement” and adding, in its place, the word “Services”.

§ 302.85 [Amended]

11. Amend § 302.85 by:

a. Removing the text “OCSE website” and adding, in its place, the text “OCSS website” in paragraph (a)(1);

b. Removing the acronym “OCSE” and adding, in its place the acronym “OCSS” in paragraph (a)(2); and

c. Removing the text “Child Support Enforcement” in paragraph (b)(2)(ii) and adding, in its place, the text “child support”.

PART 303—STANDARDS FOR PROGRAM OPERATIONS

12. The authority citation for part 303 continues to read as follows:

Authority: 42 U.S.C. 651 through 658, 659a, 660, 663, 664, 666, 667, 1302, 1396a(a)(25), 1396b(d)(2), 1396b(o), 1396b(p), 1396(k), and 25 U.S.C. 1603(12) and 1621e.

§ 303.2 [Amended]

13. Amend § 303.2(a)(3) by removing the word “enforcement”.

§ 303.5 [Amended]

14. Amend § 303.5(g)(1)(ii)(B) by removing the word “enforcement”.

§ 303.11 [Amended]

15. Amend § 303.11(b)(21)(iv) by removing the acronym “OCSE” and adding, in its place, the acronym “OCSS”.

§ 303.20 [Amended]

16. Amend § 303.20(b)(4) by removing the word “Enforcement” and adding, in its place, the word “Services”.

§ 303.72 [Amended]

17. Amend § 303.72 by removing the acronym “OCSE” and adding, in its place, the acronym “OCSS” in paragraphs (b) heading, (f)(3), and (h)(5).

PART 304—FEDERAL FINANCIAL PARTICIPATION

18. The authority citation for part 304 continues to read as follows:

Authority: 42 U.S.C. 651 through 655, 657, 1302, 1396a(a)(25), 1396b(d)(2), 1396b(o), 1396b(p), and 1396(k).

§ 304.11 [Amended]

19. Amend § 304.11 by removing the word “enforcement”.

§ 304.20 [Amended]

20. Amend § 304.20 by:

a. Removing the word “Enforcement” and adding, in its place, the word “Services” in paragraphs (b) introductory text and (b)(1)(iii) and (b)(12); and

b. Removing the text “Child Support Enforcement” in paragraph (b)(1) introductory text and adding, in its place, the text “child support”.

§ 304.23 [Amended]

21. Amend § 304.23(i) by removing the word “enforcement”.

§ 304.24 [Amended]

22. Amend § 304.24 by removing the word “Enforcement” everywhere it appears and adding, in its place, the word “Services”.

§ 304.25 [Amended]

23. Amend § 304.25(a) by removing the word “Enforcement” and adding, in its place, the word “Services”.

§ 304.29 [Amended]

24. Amend § 304.29 by removing the word “Enforcement” everywhere it appears and adding, in its place, the word “Services”.

§ 304.30 [Amended]

25. Amend § 304.30(a) introductory text and (b) introductory text by removing the word “enforcement”.

§ 304.40 [Amended]

26. Amend § 304.40(a)(2) by removing the acronym “OCSE” and adding, in its place, the acronym “OCSS”.

PART 305—PROGRAM PERFORMANCE MEASURES, STANDARDS, FINANCIAL INCENTIVES, AND PENALITES

27. The authority citation for part 305 continues to read as follows:

Authority: 42 U.S.C. 609(a)(8), 652(a)(4) and (g), 658a, and 1302.

§ 305.1 [Amended]

28. Amend § 305.1 by:

a. Removing the word “enforcement” from paragraph (d); and

b. Removing the acronym “OCSE” and adding, in its place, the acronym “OCSS” in paragraph (j).

§ 305.32 [Amended]

29. Amend § 305.32(f) by removing the word “Enforcement” and adding, in its place, the word “Services”.

§ 305.35 [Amended]

30. Amend § 305.35 by:

a. Removing the word “Enforcement” from paragraph (e) introductory text; and

b. Removing the text “OCSE-396” everywhere it appears and adding, in its place, the text “OCSS-396” in paragraph (e); and

c. Removing the word “Enforcement” and adding, in its place, the word “Services” in paragraph (f).

§ 305.60 [Amended]

31. Amend § 305.60 by removing the acronym “OCSE” and adding, in its place, the acronym “OCSS” in paragraphs (a), (b) introductory text, (c) introductory text, (c)(1), and (d).

§ 305.66 [Amended]

32. Amend § 305.66(a) by removing the acronym “OCSE” and adding, in its place, the acronym “OCSS”.

PART 307—COMPUTERIZED SUPPORT ENFORCEMENT SYSTEM

33. The authority citation for part 307 continues to read as follows:

Authority: 42 U.S.C. 652 through 658, 664, 666 through 669A, and 1302.

§ 307.1 [Amended]

34. Amend § 307.1 by:

a. Removing the acronym “OCSE” and adding, in its place, the acronym “OCSS” in paragraph (g); and

b. Removing the text “Child Support Enforcement” in paragraph (h)(1) and adding, in its place, the text “child support”.

§ 307.5 [Amended]

35. Amend § 307.5 by:

a. Removing the acronym “OCSE” and adding, in its place, the acronym “OCSS” in paragraphs (a)(1) and (2); and

b. Removing the text “Child Support Enforcement” in paragraph (c)(3) and adding, in its place, the text “child support”.

§ 307.15 [Amended]

36. Amend § 307.15 by removing the acronym “OCSE” and adding, in its place, the acronym “OCSS” in paragraphs (b)(10)(ii) introductory text, (b)(10)(ii)(A) and (B), and (b)(10)(iii).

§ 307.25 [Amended]

37. Amend § 307.25 by removing the acronym “OCSE” and adding, in its place, the acronym “OCSS” in paragraph (b).

PART 308—ANNUAL STATE SELF-ASSESSMENT REVIEW AND REPORT

38. The authority citation for part 308 continues to read as follows:

Authority: 42 U.S.C. 654(15)(A) and 1302.

§ 308.1 [Amended]

39. Amend § 308.1(e)(1) by removing the acronym “OCSE” everywhere it appears and adding, in its place, the acronym “OCSS”.

PART 309—TRIBAL CHILD SUPPORT (IV-D) PROGRAM

40. The authority citation for part 309 continues to read as follows:

Authority: 42 U.S.C. 655(f) and 1302.

41. Revise the heading for part 309 to read as set forth above.

§ 309.01 [Amended]

42. Amend § 309.01(a) by removing the word “enforcement”.

43. Amend § 309.05 by:

a. Removing the word “Enforcement” and adding in its place the word “Services” in the definition for “Central office”;

b. Removing the definition of “OCSE” and adding the definition of “OCSS” in its place; and

c. Revising the definition of “Title IV-D”.

The addition and revision read as follows:

§ 309.05 What definitions apply to this part?

* * * * *

OCSS refers to the Federal Office of Child Support Services.

* * * * *

Title IV-D refers to the title of the Social Security Act that authorizes the Child Support Services Program, including the Tribal Child Support Program.

* * * * *

§ 309.10 [Amended]

44. Amend § 309.10(c) introductory by removing the word “enforcement”.

45. Amend § 309.20 by revising paragraph (b) to read as follows:

§ 309.20 Who submits a Tribal IV-D program application and where?

* * * * *

(b) Applications must be submitted to the Office of Child Support Services, either via email to OCSS.Tribal@acf.hhs.gov or mailed to the Office of Child Support Services, Attention: Federal Office of Child Support Services, with a copy to the appropriate regional office.

§ 309.45 [Amended]

46. Amend § 309.45(c) by removing the acronym “OCSE” and adding, in its place, the acronym “OCSS”.

47. Revise § 309.55 to read as follows:

§ 309.55 What does this subpart cover?

This subpart defines the Tribal IV-D plan provisions that are required to demonstrate that a Tribe or Tribal organization has the capacity to operate a child support program meeting the objectives of title IV-D of the Act and this part, including establishment of paternity, establishment, modification, and enforcement of support orders, and location of noncustodial parents.

§ 309.75 [Amended]

48. Amend § 309.75 by removing paragraphs (e)(1) through (4).

49. Amend § 309.130 by:

a. Removing the word “enforcement” in paragraph (a)(1);

b. Revising paragraph (a)(2);

c. Removing the acronym “OCSE” and adding, in its place, the acronym “OCSS” in paragraph (b) introductory text;

d. Removing the number “90” and adding, in its place, the number “120” in paragraph (b)(3);

e. In paragraph (b)(4):

i. Removing the text “OCSE-34” and “OCSE” and adding, in their places, the text “OCSS-34” and “OCSS”, respectively; and

ii. Removing the word “Enforcement” and adding, in its place, the word “Services”; and

f. Removing the word “enforcement” in paragraph (c)(2).

The revision reads as follows:

§ 309.130 How will Tribal IV-D programs be funded and what forms are required?

(a) * * *

(2) Tribes and Tribal organizations eligible for grants will receive a single annual award.

* * * * *

§ 309.135 [Amended]

50. Amend § 309.135(d) by removing the number “269A” and adding, in its place, the number “425”.

§ 309.145 [Amended]

51. Amend § 309.145(a)(3)(v) by removing the acronym “OCSE” and adding, in its place, the acronym “OCSS”.

§ 309.160 [Amended]

52. Amend § 309.160 by removing the acronym “OCSE” everywhere it appears and adding, in its place, the acronym “OCSS”.

§ 309.170 [Amended]

53. Amend § 309.170 by:

a. Revising the first sentence of paragraph (a), the introductory text of paragraph (b), and paragraphs (b)(1) and (2);

b. Adding the word “and” at the end of paragraph (b)(6);

c. Removing paragraph (b)(7);

d. Redesignate paragraph (b)(8) as paragraph (b)(7); and

e. Revising paragraph (c).

The revisions read as follows:

§ 309.170 What statistical and narrative reporting requirements apply to Tribal IV-D programs?

(a) Tribes and Tribal organizations operating a Tribal IV-D program must submit to OCSS the Child Support Services Program: Quarterly Report of Collections (Form OCSS-34). * * *

(b) Tribes and Tribal organizations must submit the following information and statistics for Tribal IV-D program activity and caseload on the Tribal Annual Data Report (OCSS-75) for each annual funding period:

(1) Total number of cases and, of the total number of cases, the number that are Tribal cases, the number that are State or Tribal TANF cases, and the number that are non-TANF cases;

(2) Total number of children in cases open during the fiscal year and total number of children with paternity concluded;

* * * * *

(c) A Tribe or Tribal organization must submit the Tribal Annual Data Report (OCSS-75) required by paragraph (b) of this section no later than 90 days after the end of each funding period.

PART 310—COMPUTERIZED TRIBAL IV-D SYSTEM AND OFFICE AUTOMATION

54. The authority citation for part 310 continues to read as follows:

Authority: 42 U.S.C. 655(f) and 1302.

§ 310.1 [Amended]

55. Amend § 310.1(a)(6) by removing the acronym “OCSE” and adding, in its place, the acronym “OCSS”.

§ 310.5 [Amended]

56. Amend § 310.5(b)(1) by:

a. Removing the acronym “OCSE” and adding, in its place, the acronym “OCSS”; and

b. Removing the words “of this part”.

§ 310.10 [Amended]

57. Amend § 310.10 by removing the acronym “OCSE” and adding, in its place, the acronym “OCSS” in paragraphs (a)(1), (f) introductory text, (f)(2), and (g).

§ 310.20 [Amended]

58. Amend § 310.20 by removing the acronym “OCSE” everywhere it appears and adding, in its place, the acronym “OCSS” in paragraphs (a)(1) and (b).

§ 310.25 [Amended]

59. Amend § 310.25 by removing the acronym “OCSE” and adding, in its place, the acronym “OCSS” in paragraphs (b), (c)(2), and (d).

§ 310.30 [Amended]

60. Amend § 310.30 by removing the acronym “OCSE” everywhere it appears and adding, in its place, the acronym “OCSS” in paragraphs (a) and (b).

§ 310.35 [Amended]

61. Amend § 310.35 by removing the acronym “OCSE” everywhere it appears and adding, in its place, the acronym “OCSS” in paragraphs (a) introductory text, (a)(1) introductory text, (a)(1)(ii), (a)(2) introductory text, (a)(2)(ii), and (b).

§ 310.40 [Amended]

62. Amend § 310.40 by removing the acronym “OCSE” everywhere it appears and adding, in its place, the acronym “OCSS”.

[FR Doc. 2024-30987 Filed 12-30-24; 8:45 am]

BILLING CODE 4184-41-P